DEPARTMENT OF TRANSPORTATION

Federal Aviation Administration

14 CFR Part 39

[Docket No. FAA-2015-1480; Directorate Identifier 2014-SW-071-AD; Amendment 39-18352; AD 2015-26-04]

RIN 2120-AA64

Airworthiness Directives; Airbus Helicopters (Previously Eurocopter France)

AGENCY: Federal Aviation Administration (FAA), DOT.

ACTION: Final rule.

SUMMARY: We are superseding airworthiness directive (AD) 2002-13-11 for Eurocopter France (now Airbus Helicopters) Model EC120B helicopters. AD 2002-13-11 required installing front and side covers on the cabin floor to protect the yaw control at both the pilot and co-pilot stations. Since we issued AD 2002-13-11, we have determined that the required actions should apply only to the cabin's right-hand pilot station. This AD retains the requirements of AD 2002-13-11 but for only the pilot station. These actions are intended to prevent an object from sliding between the canopy and the cabin floor, loss of yaw control, and subsequent loss of helicopter control.

DATES: This AD is effective February 4, 2016.

The Director of the Federal Register approved the incorporation by reference of a certain publication listed in this AD as of February 4, 2016.

ADDRESSES: For service information identified in this final rule, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

Examining the AD Docket

You may examine the AD docket on the Internet at http://www.regulations.gov by searching for and locating Docket No. FAA-2015-1480 or in person at the Docket Operations Office between 9 a.m. and 5 p.m., Monday through Friday, except Federal holidays. The AD docket contains this AD, the Direction Generale de l'Aviation Civile (DGAC) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, Rotorcraft Directorate, FAA, 10101 Hillwood Pkwy, Fort Worth, TX 76177; telephone (817) 222-5110; email robert.grant@faa.gov.

SUPPLEMENTARY INFORMATION:

Discussion

We issued a notice of proposed rulemaking (NPRM) to amend 14 CFR part 39 to remove AD 2002-13-11, Amendment 39-12799 (67 FR 45295, July 9, 2002) and add a new AD. AD 2002-13-11 applied to Airbus Model EC120B helicopters, serial numbers 1001 through 1278, and required installing front and side covers to protect the yaw control at the pilot and co-pilot flight control stations. AD 2002-13-11 was prompted by AD No. 2001-386-007(A), dated September 5, 2001, issued by the DGAC, the airworthiness authority for France, to correct an unsafe condition for the Model EC120B helicopter. The DGAC advises of a yaw-control jamming caused by an object that slid between the canopy and the cabin floor.

After we issued AD 2002-13-11 (67 FR 45295, July 9, 2002), we determined that the front and side protections are required only at the pilot station. The NPRM published in the Federal Register on May 14, 2015 (80 FR 27605), and proposed to supersede AD 2002-13-11 to require installing the front and side covers only at the pilot station. It also reflected that Eurocopter France had changed its name to Airbus Helicopters.

Since we issued the NPRM, we discovered it contains a typographical error in the date of the service information. Also, the FAA Southwest Regional Office has relocated and a group email address has been established for requesting an FAA Alternate Method of Compliance for a helicopter of foreign design. We have corrected the error in the service information date and revised the contact information throughout this Final Rule.

Comments

We gave the public the opportunity to participate in developing this AD, but we received no comments on the NPRM (80 FR 27605, May 14, 2015).

FAA's Determination

These helicopters have been approved by the aviation authority of France and are approved for operation in the United States. Pursuant to our bilateral agreement with France, the DGAC, its technical representative, has notified us of the unsafe condition described in the DGAC AD. We are issuing this AD because we evaluated all information provided by the DGAC and determined the unsafe condition exists and is likely to exist or develop on other helicopters of these same type designs and that air safety and the public interest require adopting the AD requirements as proposed, except for the minor editorial changes described previously. These changes are consistent with the intent of the proposals in the NPRM (80 FR 27605, May 14, 2015) and will not increase the economic burden on any operator nor increase the scope of this AD.

Related Service Information Under 1 CFR Part 51

We reviewed Eurocopter Alert Service Bulletin No. 67A005, Revision 0, dated August 1, 2001 (ASB), which specifies installing a front and side protection on the cabin floor to protect the yaw control. The DGAC classified this ASB as mandatory and issued AD No. 2001-386-007(A), dated September 5, 2001, and AD 2001-386-007(A)R1, dated February 6, 2002, to ensure the continued airworthiness of these helicopters in France.

This service information is reasonably available because the interested parties have access to it through their normal course of business or by the means identified in the ADDRESSES section.

Costs of Compliance

We estimate that this AD affects 37 helicopters of U.S. Registry and that labor costs average $85 a work-hour. Required parts cost about $584 and it takes about 2 work-hours to accomplish the required actions. Based on these figures, we estimate that the total cost of this AD is $754 per helicopter and $27,898 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2002-13-11, Amendment 39 12799 (67 FR 45295, July 9, 2002), and adding the following new AD:

2015-26-04 Airbus Helicopters (Previously Eurocopter France): Amendment 39-18352; Docket No. FAA-2015-1480; Directorate Identifier 2014-SW-071-AD.

(a) Applicability

This AD applies to Model EC120B helicopters, serial numbers 1001 through 1278, inclusive, certificated in any category.

(b) Unsafe Condition

This AD defines the unsafe condition as an object sliding between the canopy and the cabin floor. This condition could result in loss of yaw control and subsequent loss of control of the helicopter.

(c) Affected ADs

This AD supersedes AD 2002-13-11, Amendment 39-12799 (67 FR 45295, July 9, 2002).

(d) Effective Date

This AD becomes effective February 4, 2016.

(e) Compliance

You are responsible for performing each action required by this AD within the specified compliance time unless it has already been accomplished prior to that time.

(f) Required Actions

Within 90 days, install front and side covers (protections) to protect the yaw control in accordance with the Accomplishment Instructions, paragraph 2.B., of Eurocopter Alert Service Bulletin No. 67A005, Revision 0, dated August 1, 2001, except the correct reference to the Aircraft Maintenance Manual in subparagraph 2.B.2 of the ASB is 20-10-00, 3-8.

(g) Alternative Methods of Compliance (AMOCs)

(1) The Manager, Safety Management Group, FAA, may approve AMOCs for this AD. Send your proposal to: Robert Grant, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in the Direction General De L'Aviation Civile (DGAC) AD No. 67A005, Revision 1, dated February 6, 2002. You may view the DGAC AD on the Internet at http://www.regulations.gov in Docket No. FAA-2015-1480.

(i) Subject

Joint Aircraft Service Component (JASC) Code: 2500, Cabin Equipment/Furnishings.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter Alert Service Bulletin No. 67A005, Revision 0, dated August 1, 2001.

(ii) Reserved.

(3) For service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 15, 2015.
Lance T. Gant,
Manager, Rotorcraft Directorate, Aircraft Certification Service.

[FR Doc. 2015-32258 Filed 12-30-15; 8:45 am]

BILLING CODE 4910-13-P